FEDERAL COMMUNICATIONS COMMISSION

[DA 04-3817]

Second Audit Letter and Notice of Cancellation to Certain Licensees in the Paging and Radiotelephone Service and Certain Licensees Operatng on 929-930 MHz Exclusive Private Carrier Paging Channels

AGENCY: Federal Communications Commission.

ACTION: Notice.

SUMMARY: In this document the Wireless Telecommunications Bureau (Bureau) announces it mailed its second audit letter and notice of cancellation to licensees that did not respond to the first inquiry. The audit involves site-specific licenses operating under part 22, Paging and Radiotelephone Service with “CD” radio service code and all site-specific licenses operating in the 929-930 MHz band on exclusive private carrier paging channels with “GS” radio service code. Licenses must respond to the audit electronically.

DATES: Responses are due by January 21, 2005.

FOR FURTHER INFORMATION CONTACT: Denise D. Walter, Mobility Division, at 202-418-0620.

SUPPLEMENTARY INFORMATION: This is a summary of the Federal Communications Commission's Public Notice, DA 04-3817, released on December 8, 2004. The full text of this document is available for inspection and copying during normal business hours in the Federal Communications Commission Reference Center, 445 12th Street, SW., Washington, DC 20554. The complete text may be purchased from the Federal Communications Commission's copy contractor, Best Copy and Printing, Inc., 445 12th Street, SW., Room CY-B402, Washington, DC 20554. The full text may also be downloaded at http://wireless.fcc.gov. Alternative formats are available to persons with disabilities by contacting Brian Millin at (202) 418-7426 or TTY (202) 418-7365 or at bmillin@fcc.gov.

1. On December 7, 2004 the Bureau mailed its second audit letter and notice of cancellation to certain licensees operating with site-specific licenses in the Paging and Radiotelephone Service, part 22, subpart E, and site-specific licenses operating on exclusive private carrier paging channels in the 929-930 MHz band, part 90, subpart P.

2. Each licensee to whom this second audit letter and notice of cancellation was mailed must respond and certify by January 21, 2005 that its authorized station(s) has not permanently discontinued operations pursuant to 47 CFR 22.317.

3. Audit letters were mailed to licensees at their address of record in the Universal Licensing System. If a licensee receives more than one audit letter, they must respond to each letter sent by the Commission in order to account for all of its call signs that are part of the audit. Licensees can use the Audit Search at http://wireless.fcc.gov/licensing/audits/paging to determine if a particular call sign is part of the audit. If the Audit Search shows a letter was mailed, the licensee is required to respond to the audit even though the audit letter may not have been received. For instructions on how to proceed in this instance, licensees should call the Bureau's hot line at 877-480-3201.

4. The process for responding to the audit was included in the second audit letter and specific instructions are provided on the certification page of the audit response module. A response is mandatory and must be submitted electronically by January 21, 2005. Failure to provide a timely response to the second audit letter and notice of cancellation may result in the Commission presuming that the station has been non-operational as defined under 47 CFR 22.317, and thus the license may be presumed to have automatically cancelled. Failure to provide a timely response may also result in enforcement action, including monetary forfeiture, pursuant to Section 503(b)(1)(B) of the Communications Act and 47 CFR 1.80(a)(2).

Federal Communications Commission.
Roger Noel,
Division Chief, Mobility Division.

[FR Doc. 04-27874 Filed 12-20-04; 8:45 am]

BILLING CODE 6710-01-P